DEPARTMENT OF THE TREASURY

Internal Revenue Service

Open Meeting of the Area 7 Taxpayer Advocacy Panel Committee (Area 7 Includes California State)

ACTION: Notice.

SUMMARY: An open meeting of the Area 7 Taxpayer Advocacy Panel will be held in Los Angeles, California.

DATES: The meeting will be held Wednesday, November 20, 2002.

FOR FURTHER INFORMATION CONTACT: Mary Peterson or Judi Nicholas at 1-888-912-1227, or 206-220-6096.

SUPPLEMENTARY INFORMATION: Notice is hereby given pursuant to section 10(a)(2) of the Federal Advisory Committee Act, 5 U.S.C. App. (1988) that an open meeting of the Area 7 Taxpayer Advocacy Panel Committee will be held Wednesday, November 20, 2002, from 10 a.m. to 2 p.m. at the Federal Building located at 300 North Los Angeles St., Los Angeles, CA 90012.

The public is invited to offer written comments. If you would like to have the TAP consider a written statement, please call Mary Peterson-O'Brien or Judi Nicholas at 1-888-912-1227 or 206-220-6096, or write Mary Peterson-O'Brien or Judi Nicholas at 915 2nd Avenue, Mail stop W 406, Seattle, WA 98174.

The agenda will include the following: various IRS issues.

Note: Last minute changes to the agenda are possible and could prevent effective advance notice.

Addendum: “Due to a formatting error, this notice will not appear for the customary fourteen full days.”

Dated: November 7, 2002.
John J. Mannion,
Director, Program Panning and Quality.

[FR Doc. 02-29385 Filed 11-19-02; 8:45 am]

BILLING CODE 4830-01-P